DEPARTMENT OF ENERGY

Federal Energy Regulatory Commission

[Project No. 14337-000]

Mayville Pumped Storage, LLC; Notice of Preliminary Permit Application Accepted for Filing and Soliciting Comments, Motions To Intervene, and Competing Applications

On December 16, 2011, Mayville Pumped Storage, LLC filed an application for a preliminary permit, pursuant to section 4(f) of the Federal Power Act (FPA), proposing to study the feasibility of a hydropower project located on the Ohio River in Mason County, Kentucky. The sole purpose of a preliminary permit, if issued, is to grant the permit holder priority to file a license application during the permit term. A preliminary permit does not authorize the permit holder to perform any land-disturbing activities or otherwise enter upon lands or waters owned by others without the owners' express permission.

The proposed project would consist of two alternatives:

Alternative A would consist of: (1) An intake structure on the Ohio River and a 24-inch-diameter, 8,000-foot-long pipeline to supply water to the upper reservoir; (2) a 260-foot-high, 1,360-foot-long roller-compacted concrete upper dam; (3) an upper reservoir with a surface area of 126.0 acre and a storage capacity of 9,970 acre-feet; (4) a 27-foot-diameter, 500-foot-long concrete-lined headrace; (5) a 27-foot-diameter, 1,320-foot-long concrete-lined pressure shaft; (6) a powerhouse/pumping station containing four pump/generating units with a total capacity of 1,000.0 megawatts (MW); (7) a 32-foot-diameter, 2,730-foot-long concrete-lined tailrace; (8) a lower reservoir created within excavated underground mine space with a surface area of 212 acres and a storage capacity of 9,540 acre-feet; and (9) a 6-mile-long, 345 kilo-volt (KV) transmission line. The project would have an estimated average annual generation of 2,190,000 megawatt-hours (MWh) and the project power would be sold.

Alternative B would consist of: (1) An intake structure on the Ohio River and a 24-inch-diameter, 4,100-foot-long pipeline to supply water to the upper reservoir; (2) a 260-foot-high, 1,540-foot-long roller-compacted concrete upper dam; (3) an upper reservoir with a surface area of 138 acres and a storage capacity of 11,900 acre-feet; (4) a 29-foot-diameter, 5,000-foot-long concrete-lined headrace; (5) a 29-foot-diameter, 885-foot-long concrete-lined pressure shaft; (6) a powerhouse/pumping station containing four pump/generating units with a total capacity of 1,000.0 megawatts (MW); (7) a 35-foot-diameter, 2,000-foot-long concrete-lined tailrace; (8) a lower reservoir created within excavated underground mine space with a surface area of 266 acres and a storage capacity of 12,000 acre-feet; and (9) a 2.5-mile-long, 345 kilo-volt (KV) transmission line. The project would have an estimated average annual generation of 2,190,000 megawatt-hours (MWh) and the project power would be sold.

Applicant Contact: Mr. Matthew Shapiro, Gridflex Energy, LLC, 1210 W. Franklin St., Ste. 2, Boise, ID 83702. (208) 246-9925.

FERC Contact: Michael Spencer, michael.spencer@ferc.gov, (202) 502-6093.

Deadline for filing comments, motions to intervene, competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-866-208-3676, or for TTY, (202) 502-8659. Although the Commission strongly encourages electronic filing, documents may also be paper-filed. To paper-file, mail an original and seven copies to: Kimberly D. Bose, Secretary, Federal Energy Regulatory Commission, 888 First Street NE., Washington, DC 20426.

More information about this project, including a copy of the application, can be viewed or printed on the “eLibrary” link of Commission's Web site at http://www.ferc.gov/docs-filing/elibrary.asp. Enter the docket number (P-14337-000) in the docket number field to access the document. For assistance, contact FERC Online Support.

Dated: March 14, 2012.
Nathaniel J. Davis, Sr.,
Deputy Secretary.

[FR Doc. 2012-6631 Filed 3-19-12; 8:45 am]

BILLING CODE 6717-01-P